DEPARTMENT OF DEFENSE

Department of the Navy

Notice of Intent To Grant Exclusive Patent License; Integrated Composite Construction Systems, LLC

AGENCY: Department of the Navy, DoD.

ACTION: Notice.

SUMMARY: The Department of the Navy hereby gives notice of its intent to grant to Integrated Composite Construction Systems, LLC., a revocable, nonassignable, exclusive license to practice in the field of use of fabrication of silicone carbide nanoparticles and nanorods for use in high performance concrete, including but not limited to, in the United States, the Government-owned invention described in U.S. Patent No. 9,120,679: Silicon Carbide Synthesis, Navy Case No. 101,536.//U.S. Patent No. 9,051,186: Silicon carbide Synthesis from Agricultural Waste, Navy Case No. 101,536.//and any continuations, divisionals or re-issues thereof.

DATES: Anyone wishing to object to the grant of this license must file written objections along with supporting evidence, if any, not later than March 14, 2018.

ADDRESSES: Written objections are to be filed with the Naval Research Laboratory, Code 1004, 4555 Overlook Avenue SW, Washington, DC 20375-5320.

FOR FURTHER INFORMATION CONTACT: Amanda Horansky McKinney, Head, Technology Transfer Office, NRL Code 1004, 4555 Overlook Avenue SW, Washington, DC 20375-5320, telephone 202-767-1644. Due to U.S. Postal delays, please fax 202-404-7920, email: techtran@research.nrl.navy.mil or use courier delivery to expedite response.

Authority: 35 U.S.C. 207, 37 CFR part 404.

Dated: February 20, 2018.
E.K. Baldini,
Lieutenant Commander, Judge Advocate General's Corps, U.S. Navy, Federal Register Liaison Officer.

[FR Doc. 2018-03932 Filed 2-26-18; 8:45 am]

BILLING CODE 3810-FF-P